DEPARTMENT OF JUSTICE

Notice of Lodging Proposed Consent Decree

In accordance with Departmental Policy, 28 CFR 50.7, notice is hereby given that a proposed Consent Decree in United States v. Adam Bros. Farming Inc., Civil Action No. 00-cv-7409 CAS (RNBx), was lodged with the United States District Court for the Central District of California on February 25, 2005.

This proposed Consent Decree concerns a complaint filed by the United States against Adam Bros. Farming, Inc. Iceberg Holdings, L.P., Richard Adam, Peter Adam, Kieran Adam, and Dominic Adam, pursuant to 33 U.S.C. 1319(b) and (d), alleging violations of sections 301 and 309 of the Clean Water Act, 33 U.S.C. 1311, 1319. The proposed Consent Decree resolves these allegations by requiring the Defendants to restore portions of the impacted area, pay for off-site mitigation and pay a civil penalty.

The Department of Justice will accept written comments relating to this proposed Consent Decree for thirty (30) days from the date of publication of this Notice. Please address comments to Lily N. Chinn, Trial Attorney, P.O. Box 23986, Washington, DC 20026-3986, and refer to United States v. Adam Bros. Farming Inc., DJ #90-5-1-1-05744.

The proposed Consent Decree may be examined at the Clerk's Office, United States District Court for the Central District of California, 312 Spring Street, Room G-8, Los Angeles, California, 90012. In addition, the proposed Consent Decree may be viewed at http://www.usdoj.gov/enrd/open.html.

Stephen Samuels,
Assistant Chief, Environmental Defense Section, Environment & Natural Resources Division.

[FR Doc. 05-4043 Filed 3-2-05; 8:45 am]

BILLING CODE 4410-15-M